CONSUMER PRODUCT SAFETY COMMISSION

Sunshine Act Meeting

TIME AND DATE: Wednesday, October 2, 2024—10:00 a.m.-Noon (see MATTERS TO BE CONSIDERED).

PLACE: The meeting will be held remotely, and in person at 4330 East West Highway, Bethesda, Maryland, 20814.

STATUS: Commission Meeting—Open to the Public.

MATTERS TO BE CONSIDERED: Briefing Matters:

Draft Final Rule: Safety Standard for Infant Support Cushions

Notice of Proposed Rulemaking: Requirements for Neck Floats

To attend the meeting remotely, please use the following link: https://cpsc.webex.com/cpsc/j.php?MTID=mb8fce51679e324e8d681091b00736b23.

CONTACT PERSON FOR MORE INFORMATION: Alberta E. Mills, Office of the Secretary, U.S. Consumer Product Safety Commission, 4330 East West Highway, Bethesda, MD 20814, 301-504-7479 (Office) or 240-863-8938 (Cell).

Dated: September 25, 2024.
Alberta E. Mills,
Commission Secretary.

[FR Doc. 2024-22440 Filed 9-26-24; 11:15 am]

BILLING CODE P